DEPARTMENT OF ENERGY

Energy Information Administration

Agency Information Collection Activities: Proposed Collection; Comment Request

AGENCY: Energy Information Administration (EIA), Department of Energy (DOE).

ACTION: Agency Information Collection Activities: Proposed collection; comment request.

SUMMARY: The EIA is soliciting comments on the proposed revision and three-year extension to the following EIA Forms:

• EIA-63A, “Annual Solar Thermal Collector/Reflector Shipments Report.”

• EIA-63B, “Annual Photovoltaic Cell/Module Shipments Report.”

• EIA-902, “Annual Geothermal Heat Pump Shipments Report.”

DATES: Comments must be filed by June 7, 2010. If you anticipate difficulty in submitting comments within that period, contact the person listed below as soon as possible.

ADDRESSES: Send comments to Fred Mayes. To ensure receipt of the comments by the due date, submission by FAX 202-287-1944 or e-mail fred.mayes@eia.doe.gov is recommended. The mailing address is U.S. Energy Information Administration, EI-52, Forrestal Building, U.S. Department of Energy, 1000 Independence Ave., SW., Washington, DC 20585. Alternatively, Fred Mayes may be contacted by telephone at 202-586-1508.

FOR FURTHER INFORMATION CONTACT: Requests for additional information or copies of any forms and instructions (the proposed draft collection) should be directed to Fred Mayes at the address listed above. Also see the forms and instructions at http://www.eia.doe.gov/cneaf/solar.renewables/page/fed_register/renewable_2011.html.

SUPPLEMENTARY INFORMATION:

I. Background

II. Current Actions

III. Request for Comments

I. Background

The Federal Energy Administration Act of 1974 (15 U.S.C. 761 et seq.) and the DOE Organization Act (42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands and to promote sound policymaking, efficient markets, and public understanding of energy and its interaction with the economy and the environment.

The EIA, as part of its effort to comply with the Paperwork Reduction Act of 1995 (44 U.S.C. 3501, et seq.), provides the general public and other Federal agencies with opportunities to comment on collections of energy information conducted by or in conjunction with the EIA. Also, the EIA will later seek approval for this collection by the Office of Management and Budget (OMB) under Section 3507(a) of the Paperwork Reduction Act of 1995.

Form EIA-63A, “Annual Solar Thermal Collector/Reflector Shipments Report,” collects information on the distribution of solar thermal panels by manufacturers; Form EIA-63B, “Annual Photovoltaic Cell/Module Shipments Report,” collects information on the distribution by manufacturers of photovoltaic (PV) cells/modules; and Form EIA-902, “Annual Geothermal Heat Pump Shipments Report,” collects information on distribution of geothermal heat pumps by manufacturers. Specifically, all forms collect information on manufacturing, stocks, imports, exports, and domestic shipments. The EIA has been collecting the above information annually and proposes to continue the surveys. The data collected will be disseminated in electronic products and electronic data files for use by government and private sector analysts. For details on EIA's renewables information program, please visit the renewable and alterative fuels page at EIA's Web site at http://www.eia.doe.gov/fuelrenewable.html.

Please refer to the proposed forms and instructions for more information about the purpose, who must report, when to report, where to submit, the elements to be reported, detailed instructions, provisions for confidentiality, and uses (including possible nonstatistical uses) of the information. For instructions on obtaining materials, see the FOR FURTHER INFORMATION CONTACT section.

II. Current Actions

The following actions are being taken for the EIA 63A, EIA-63B, and EIA-902:

• The forms now request the “total equipment balance” (inventories, production, shipments, imports, exports, stocks), rather than just shipments, imports, and exports.

• End uses are revised as appropriate for each survey but were compressed into fewer categories where possible.

• The number of units and/or number of systems shipped, as appropriate, is now requested.

• Shipments are now obtained by state for each sector, end use. Previously, data did not cross-classify shipments by state by sector or shipments by state by end use.

• The eligible list of survey respondents is now expanded to cover importer/exporter-only companies, domestic subsidiaries of overseas manufacturers, and companies registered on a U.S. stock exchange. This will greatly improve coverage of equipment that is imported directly into the U.S. to an end user.

Changes related to Form EIA-902 only:

• The American Refrigeration Institute (ARI)/International Standards Organization (ISO) GHP classifications are replaced by functional names of greater interest and usage by manufacturers.

Changes related to Forms EIA-63A and EIA-63B only:

• The “Other” collector type was eliminated because too many respondents chose it when a better choice was available.

Changes related to Form EIA-63B only:

• The form now has separate schedules for collecting cells and modules data. Data collected for cells and modules will be slightly different.

III. Request for Comments

Prospective respondents and other interested parties should comment on the actions discussed in item II. The following guidelines are provided to assist in the preparation of comments. Please indicate to which form(s) your comments apply.

As a Potential Respondent to the Request for Information

A. Is the proposed collection of information necessary for the proper performance of the functions of the agency and does the information have practical utility?

B. What actions could be taken to help ensure and maximize the quality, objectivity, utility, and integrity of the information to be collected?

C. Are the instructions and definitions clear and sufficient? If not, which instructions need clarification?

D. Can the information be submitted by the respondent by the due date?

E. Public reporting burden for this collection is estimated to average 4.5 burden hours per response for Form EIA-63A, 4.5 burden hours per response for Form EIA-63B and 4.5 burden hours per response for Form EIA-902. The estimated burden includes the total time necessary to provide the requested information. In your opinion, how accurate is this estimate?

F. The agency estimates that the only cost to a respondent is for the time it will take to complete the collection. Will a respondent incur any start-up costs for reporting, or any recurring annual costs for operation, maintenance, and purchase of services associated with the information collection?

G. What additional actions could be taken to minimize the burden of this collection of information? Such actions may involve the use of automated, electronic, mechanical, or other technological collection techniques or other forms of information technology.

H. Does any other Federal, State, or local agency collect similar information? If so, specify the agency, the data element(s), and the methods of collection.

As a Potential User of the Information To Be Collected

A. Is the proposed collection of information necessary for the proper performance of the functions of the agency and does the information have practical utility?

B. What actions could be taken to help ensure and maximize the quality, objectivity, utility, and integrity of the information disseminated?

C. Is the information useful at the levels of detail to be collected?

D. For what purpose(s) would the information be used? Be specific.

E. Are there alternate sources for the information and are they useful? If so, what are their weaknesses and/or strengths?

Comments submitted in response to this notice will be summarized and/or included in the request for OMB approval of the form. They also will become a matter of public record.

Statutory Authority: Section 13(b) of the Federal Energy Administration Act of 1974, Pub. L. 93-275, codified at 15 U.S.C. 772(b).

Issued in Washington, DC, April 1, 2010.
Stephanie Brown,
Director, Statistics and Methods Group, Energy Information Administration.

[FR Doc. 2010-7861 Filed 4-6-10; 8:45 am]

BILLING CODE 6450-01-P